ENVIRONMENTAL PROTECTION AGENCY

[FRL-8561-6]

EPA Science Advisory Board Staff Office; Request for Nominations To Augment Expertise on the Ecological Processes and Effects Committee (EPEC)

AGENCY: Environmental Protection Agency (EPA).

ACTION: Notice.

SUMMARY: The U.S. Environmental Protection Agency (EPA or Agency) Science Advisory Board (SAB or the Board) Staff Office is requesting nominations of experts in the area of aquatic toxicology of endocrine disrupting chemicals to augment expertise on the SAB's Ecological Processes and Effects Committee. Nominees will be considered for service on the augmented EPEC to provide advice on a methodology for deriving water quality criteria for the protection of aquatic life based on chemical mode of action.

DATES: Nominations should be submitted by May 16, 2008 per the instructions below.

FOR FURTHER INFORMATION CONTACT: For information regarding this Request for Nominations please contact Dr. Thomas Armitage, Designated Federal Officer (DFO), EPA Science Advisory Board Staff Office, at: armitage.thomas@epa.gov or (202) 343-9995. General information concerning the SAB can be found on the EPA Web site at: http://www.epa.gov/sab.

SUPPLEMENTARY INFORMATION: Background: The SAB (42 U.S.C. 4365) is a chartered Federal Advisory Committee that provides independent scientific and technical peer review, advice, consultation, and recommendations to the EPA Administrator on the technical basis for EPA actions. As a Federal Advisory Committee, the SAB conducts business in accordance with the Federal Advisory Committee Act (FACA) (5 U.S.C. App. C) and related regulations. Generally, SAB meetings are announced in the Federal Register, conducted in public view, and provide opportunities for public input during deliberations. Additional information about the SAB and its committees can be obtained on the SAB Web site at: http://www.epa.gov/sab.

The EPA has asked the SAB for advice concerning technical challenges and recommendations for deriving aquatic life water quality criteria for emerging contaminants such as pharmaceuticals and personal care products exhibiting endocrine disrupting activity. This advice will be provided by the SAB EPEC augmented with experts in field of aquatic toxicology who have specialized knowledge of the effects of endocrine disrupting chemicals.

Expertise Sought: The SAB Staff Office requests nominations of recognized experts in the field of aquatic toxicology with specific knowledge of the effects of endocrine disrupting chemicals.

How to Submit Nominations: Any interested person or organization may nominate qualified individuals to be considered for appointment on this SAB panel. Candidates may also nominate themselves. Nominations should be submitted in electronic format (which is preferred over hard copy) following the instructions for “Nominating Experts to Advisory Panels and Ad Hoc Committees Being Formed” provided on the SAB Web site. The form can be accessed through the “Public Involvement in Advisory Committee” link on the blue navigational bar on the SAB Web site at: http://www.epa.gov/sab. To receive full consideration, nominations should include all of the information requested.

The nominating form requests contact information about: The person making the nomination; contact information about the nominee; the disciplinary and specific areas of expertise of the nominee; the nominee's curriculum vita; sources of recent grant and/or contract support; and a biographical sketch of the nominee indicating current position, educational background; research activities; and recent service on other national advisory committees or national professional organizations.

Persons having questions about the nomination procedures, or who are unable to submit nominations through the SAB Web site, should contact Dr. Thomas Armitage, DFO, at the contact information provided above in this notice. Non-electronic submissions must follow the same format and contain the same information as the electronic.

The SAB Staff Office will acknowledge receipt of the nomination and inform nominees of the panel for which they have been nominated. From the nominees identified by respondents to this Federal Register notice (termed the “Widecast”) and other sources, the SAB Staff Office will develop a smaller subset (known as the “Short List”) for more detailed consideration. The Short List will be posted on the SAB Web site at: http://www.epa.gov/sab and will include, for each candidate, the nominee's name and biosketch. Public comments on the Short List will be accepted for 7 calendar days. During this comment period, the public will be requested to provide information, analysis or other documentation on nominees that the SAB Staff Office should consider in evaluating candidates for the Committee.

For the SAB, a balanced panel is characterized by inclusion of candidates who possess the necessary domains of knowledge, the relevant scientific perspectives (which, among other factors, can be influenced by work history and affiliation), and the collective breadth of experience to adequately address the charge. Public responses to the Short List candidates will be considered in the selection of the panels, along with information provided by candidates and information gathered by SAB Staff independently of the background of each candidate (e.g., financial disclosure information and computer searches to evaluate a nominee's prior involvement with the topic under review). Specific criteria to be used in evaluation of an individual Panel member include: (a) Scientific and/or technical expertise, knowledge, and experience (primary factors); (b) absence of financial conflicts of interest; (c) scientific credibility and impartiality; (d) availability and willingness to serve; and (e) ability to work constructively and effectively in committees.

Short List candidates will be required to fillout the “Confidential Financial Disclosure Form for Special Government Employees Serving on Federal Advisory Committees at the U.S. Environmental Protection Agency” (EPA Form 3110-48). This confidential form allows Government officials to determine whether there is a statutory conflict between that person's public responsibilities (which includes membership on an EPA Federal advisory committee) and private interests and activities, or the appearance of a lack of impartiality, as defined by Federal regulation. The form may be viewed and downloaded from the following URL address: http://yosemite.epa.gov/sab/sabproduct.nsf/Web/Form3110-48/$File/epaform3110-48.pdf.

Dated: April 28, 2008.
Anthony F. Maciorowski,
Deputy Director, EPA Science Advisory Board Staff Office.

[FR Doc. E8-9738 Filed 5-1-08; 8:45 am]

BILLING CODE 6560-50-P